DEPARTMENT OF THE INTERIOR

National Park Service

Gaviota Coast Seashore Feasibility Study and Environmental Impact Statement Santa Barbara County, California; Notice of Extension of Scoping Period

SUMMARY: In accord with 102(2)(C) of the National Environmental Policy Act (42 U.S.C. 4321 et seq.), the National Park Service (NPS) is undertaking a conservation planning and impact analysis process to identify and assess the potential impacts of alternative resource protection and visitor use concepts and other considerations pertaining to the Gaviota Coast Seashore Feasibility Study area in Santa Barbara County. As announced September 12, 2000 in the Federal Register (65 FR 55039-55040), a public scoping process has been initiated to aid preparation of an environmental impact statement (EIS) and feasibility study report. In deference to public interest expressed to date from local organizations, area residents, other concerned parties, and in consultation with Congresswoman Lois Capps (22D-CA), the public scoping period has been extended from the original October 9, 2000 deadline to November 30, 2000.

SUPPLEMENTARY INFORMATION: All comments received to date have been documented; this information already has informed the conservation planning and environmental impact analysis efforts. A summary of all issues and concerns generated to date is available on request, or may be obtained via the Internet at <http://www.nps.gov/pwro/gaviota>.

Interested individuals, organizations and agencies wishing to provide additional new comments or suggestions, or wishing to be added to the project mailing list, should respond to Gaviota Coast Feasibility Study Team, Attn: Ray Murray, National Park Service, 600 Harrison Street, Suite 600, San Francisco, CA 94107. To be fully considered, all comments must be postmarked no later than November 30, 2000 (or if via e-mail, transmitted no later than this date to PGSO_Gaviota@nps.gov).

If individuals submitting comments request that their name and/or address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Dated: October 13, 2000
John J. Reynolds,
Regional Director, Pacific West Region.

[FR Doc. 00-27175 Filed 10-20-00; 8:45 am]

BILLING CODE 4310-70-P